DEPARTMENT OF ENERGY

Federal Energy Regulatory Commission

Combined Notice of Filings #2

Take notice that the Commission received the following electric rate filings:

Docket Numbers: ER11-3125-002.

Applicants: Old Dominion Electric Cooperative.

Description: Amendment to MBR Tariff to be effective 9/13/2010.

Filed Date: 11/10/2011.

Accession Number: 20111110-5064.

Comment Date: 5 p.m. ET on 12/1/2011.

Docket Numbers: ER11-3902-002.

Applicants: Jersey Central Power & Light.

Description: Correction to Seller Category to be effective 6/29/2011.

Filed Date: 11/10/2011.

Accession Number: 20111110-5045.

Comment Date: 5 p.m. ET on 12/1/2011.

Docket Numbers: ER11-4124-000.

Applicants: Michigan Electric Transmission Company, LLC.

Description: Filing of a Refund Report to be effective N/A.

Filed Date: 11/10/2011.

Accession Number: 20111110-5042.

Comment Date: 5 p.m. ET on 12/1/2011.

Docket Numbers: ER11-4156-000.

Applicants: ITC Midwest LLC.

Description: Filing of a Refund Report to be effective N/A.

Filed Date: 11/10/2011.

Accession Number: 20111110-5025.

Comment Date: 5 p.m. ET on 12/1/2011.

Docket Numbers: ER11-4302-000.

Applicants: ITC Midwest LLC.

Description: Filing of a Refund Report to be effective N/A.

Filed Date: 11/10/2011.

Accession Number: 20111110-5033.

Comment Date: 5 p.m. ET on 12/1/2011.

Docket Numbers: ER12-377-000.

Applicants: El Paso Marketing, L.P.

Description: El Paso Marketing, L.P. MBR Baseline Filing to be effective 11/10/2011.

Filed Date: 11/10/2011.

Accession Number: 20111110-5044.

Comment Date: 5 p.m. ET on 12/1/2011.

Docket Numbers: ER12-378-000.

Applicants: South Carolina Electric & Gas Company.

Description: Compliance filing for 3 Tap Agreements 11.10.2011 to be effective 11/10/2011.

Filed Date: 11/10/2011.

Accession Number: 20111110-5071.

Comment Date: 5 p.m. ET on 12/1/2011.

Docket Numbers: ER12-379-000.

Applicants: NV Energy, Inc.

Description: Servic Agreement No. 10-01251 Amended & Restated SGIA-CC Landfill to be effective 10/20/2011.

Filed Date: 11/10/2011.

Accession Number: 20111110-5073.

Comment Date: 5 p.m. ET on 12/1/2011.

Docket Numbers: ER12-380-000.

Applicants: Pacific Gas and Electric Company.

Description: Notice of Termination for Hercules IA and Transmission Facilities Agreement to be effective 1/10/2012.

Filed Date: 11/10/2011.

Accession Number: 20111110-5082.

Comment Date: 5 p.m. ET on 12/1/2011.

Take notice that the Commission received the following foreign utility company status filings:

Docket Numbers: FC12-1-000.

Applicants: Le Plateau Wind Power L.P.

Description: Self-Certification of Foreign Utility Company Status of Le Plateau Wind Power L.P.

Filed Date: 11/10/2011.

Accession Number: 20111110-5031.

Comment Date: 5 p.m. ET on 12/1/2011.

Docket Numbers: FC12-2-000.

Applicants: Wind Invest Sp. z.o.o.

Description: Notice of Self-Certification of Foreign Utility Company Status of Wind Invest Sp. z.o.o..

Filed Date: 11/10/2011.

Accession Number: 20111110-5029.

Comment Date: 5 p.m. ET on 12/1/2011.

Docket Numbers: FC12-3-000.

Applicants: Dobieslaw Wind Invest z.o.o..

Description: Notice of Self-Certification of Foreign Utility Company Status of Dobieslaw Wind Invest z.o.o.

Filed Date: 11/10/2011.

Accession Number: 20111110-5038.

Comment Date: 5 p.m. ET on 12/1/2011.

Docket Numbers: FC12-4-000.

Applicants: Jezycki Wind Invest Sp. z.o.o.

Description: Notice of Self-Certification of Foreign Utility Company Status of Jezycki Wind Invest Sp. z.o.o.

Filed Date: 11/10/2011.

Accession Number: 20111110-5039.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 10, 2011.
Nathaniel J. Davis, Sr.,
Deputy Secretary.

[FR Doc. 2011-29926 Filed 11-18-11; 8:45 am]

BILLING CODE 6717-01-P